ENVIRONMENTAL PROTECTION AGENCY

[FRL-7505-7]

Notice of Proposed De Minimis Settlement Under Section 122(g) of the Comprehensive Environmental Response, Compensation and Liability Act of 1980 (CERCLA) as Amended, 42 U.S.C. 9622(g), Great Lakes Container Corporation Superfund Site, City of St. Louis, St. Louis County, MO, Docket No. CERCLA-07-2003-0087

AGENCY: Environmental Protection Agency.

ACTION: Notice of Proposed De minimis Settlement, Great Lakes Container Corporation Superfund Site, St. Louis, Missouri.

SUMMARY: Notice is hereby given that a proposed de minimis administrative settlement regarding Saveway Petroleum (Saveway) and the United States Environmental Protection Agency (EPA) was signed by the EPA on April 3, 2003. The facility that is the subject of this de minimis settlement is the Great Lakes Container Corporation Superfund Site (Site), located in St. Louis, Missouri.

DATES: EPA will receive written comments relating to the proposed de minimis settlement until July 3, 2003.

ADDRESSES: Comments should be addressed to the Regional Administrator, United States Environmental Protection Agency, Region VII, 901 N. 5th Street, Kansas City, Kansas 66101 and should refer to: In the Matter of the Great Lakes Container Superfund Site, City of St. Louis, St. Louis County, Missouri, Docket No. CERCLA-07-2003-0087.

FOR FURTHER INFORMATION CONTACT: Denise L. Roberts, Senior Assistant Regional Counsel, United States Environmental Protection Agency, Region VII, 901 N. 5th Street, Kansas City, Kansas 66101.

SUPPLEMENTARY INFORMATION: This proposed settlement is intended to resolve the liability of Saveway Petroleum at the Great Lakes Container Corporation Superfund Site in St. Louis, Missouri.

Great Lakes Container Corporation is a former drum reclamation company who operated at the Site from 1976 to 1985. The same business was operated as Northwestern Cooperage from the 1950's to 1976 and then operated as Great Lakes Container Corporation. EPA conducted a time-critical removal completed in 1998 that consisted primarily of soil and drum removal. The EPA incurred costs of approximately $9,127,244.30. The hazardous substances at this Site consisted primarily of lead and polychlorinated biphenyls. Liability is based on the theory that de minimis parties arranged for disposal of hazardous substances at the Site by shipping drums for reclamation coated with paint containing lead. The de minimis parties either admitted that they sent drums for reclamation to the Site or EPA had separate evidence to prove that de minimis parties sent drums for reclamation to the Site.

This settlement is being offered to Saveway because it is liable for no more than one quarter a percent (.25%) of EPA's past costs at the Site. The majority of de minimis parties are each required to pay $4,839.44 or $5,133.72 depending on whether the party was required to pay prejudgment interest. Other settlements made for six de minimis parties varied from $3,794.19 to $22,856.56 because more volume-specific information was available for them allowing EPA to refine the calculation. The amount and toxicity of hazardous substances contributed by Saveway was minimal as compared to other parties' shares of hazardous substances. The EPA determined this amount to be Saveway's fair share of liability based on the amount of hazardous substances generated and disposed of at the Site and the volume of waste contributed. However, because Saveway has demonstrated an inability to pay, it will not be required to pay any of EPA's past costs at the Site. As a result, Saveway has agreed to provide access to EPA and maintain records for five (5) years.

The settlement also includes contribution protection from lawsuits by other potentially responsible parties as provided for under section 122(g)(5) of CERCLA, 42 U.S.C. 9622(g)(5). The de minimis settlement provides that EPA covenants not to sue Saveway for response costs at the Site or for injunctive relief pursuant to sections 106 and 107 of CERCLA and section 7003 of the Resource Conservation and Recovery Act of 1976, as amended (RCRA), 42 U.S.C. 6973. The settlement contains a reopener clause which nullifies the covenant not to sue if any information becomes known to EPA that indicates that Saveway no longer meets the criteria for a de minimis settlement set forth in section 122(g)(1)(A) of CERCLA, 42 U.S.C. 9622(g)(1)(A). The United States maintains the ability to bring an action in the event that the financial information provided by Saveway was false. The covenant not to sue does not apply to the following matters:

(a) Claims based on the future arrangement for disposal or treatment of any hazardous substance, pollutant, or contaminant at the Site after the effective date of the de minimis settlement;

(b) Criminal liability; or

(c) Liability for damages or injury to, destruction of, or loss of the natural resources and for the costs of any natural resource damage assessments.

The de minimis settlement will become effective upon the date which the EPA issues a written notice to Saveway that the statutory public comment period has closed and that comments received, if any, do not require modification, of or EPA withdrawal from the settlement.

Dated: May 22, 2003.
James B. Gulliford,
Regional Administrator, Region VII.

[FR Doc. 03-13565 Filed 6-2-03; 8:45 am]

BILLING CODE 6560-50-P